DEPARTMENT OF COMMERCE

National Oceanic and Atmospheric Administration

50 CFR Part 648

[Docket No. 030409081-3081-01; I.D. 032103B]

Fisheries of the Northeastern United States; Northeast (NE) Multispecies Fishery; Extension of Comment Period

AGENCY: National Marine Fisheries Service (NMFS), National Oceanic and Atmospheric Administration (NOAA), Commerce.

ACTION: Proposed emergency rule; partial extension of comment period.

SUMMARY: NMFS is extending the public comment period on the measures associated with the proposed NE Multispecies DAS Leasing Program of the NE multispecies proposed emergency rule that was published in the Federal Register on April 24, 2003, through June 10, 2003. The emergency rule proposes to continue management measures implemented on August 1, 2002, consistent with the Settlement Agreement Among Certain Parties (Settlement Agreement) and to implement a DAS Leasing Program to mitigate impacts of the Settlement Agreement measures and to provide flexibility to some segments of the fishing industry. The intent of this notification is to inform the public that the comment period on the proposed DAS Leasing Program will be extended until June 10, 2003. In addition, NMFS informs the public that the docket number for the proposed rule published April 24, 2003, was inadvertently omitted. This document reflects the docket number related to the April 24, 2003, proposed rule.

DATES: The comment period on the proposed regulatory text for the DAS Leasing Program contained in §§ 648.2, 648.4(a)(1)(i)(G), 648.14, 648.82, and § 648.92 of the April 24, 2003 (68 FR 20096) proposed emergency rule is extended from May 27, 2003, through June 10, 2003. The comment period on the continuation of the Settlement Agreement measures and amendments to § 648.4(a)(1)(i)(I)(2) and (c)(2)(iii) and § 648.81(h)(1) will end on May 27, 2003. All comments must be received no later than 5 p.m., local time, on the last day of the respective comment periods.

ADDRESSES: Written comments on the proposed emergency rule should be sent to Patricia A. Kurkul, Regional Administrator, National Marine Fisheries Service, One Blackburn Drive, Gloucester, MA 01930. Mark the outside of the envelope, “Comments on the Proposed Emergency Rule for Groundfish.” Comments also may be sent via facsimile (fax) to (978) 281-9135. Comments will not be accepted if submitted via e-mail or Internet.

FOR FURTHER INFORMATION CONTACT: Thomas Warren, Fishery Policy Analyst, phone 978-281-9347, fax: 978-281-9135; email: thomas.warren@noaa.gov.

SUPPLEMENTARY INFORMATION: A proposed emergency rule was published in the Federal Register on April 24, 2003 (68 FR 20096) and subsequently corrected on May 9, 2003 (68 FR 24914), that would continue measures implemented on August 1, 2002, consistent with the Settlement Agreement, which was adopted by the U.S. District Court (Court) for the District of Columbia in a Remedial Order (Order) issued on May 23, 2002, as a result of Conservation Law Foundation, et al. v. Evans, et al. In addition, the emergency rule would implement a DAS Leasing Program under the emergency authority of section 305(c) of the Magnuson-Stevens Fishery Conservation and Management Act in order to mitigate the impacts resulting from the continuation of the August 1, 2002, interim final rule measures (67 FR 50292). The DAS Leasing Program would allow limited access NE multispecies vessels to lease their NE multispecies DAS during the current fishing year. Additional information on the background and proposed measures appear in the preamble of the April 24, 2003, proposed emergency rule and are not repeated here.

Due to the newness and potential controversiality of the DAS Leasing Program and its implications, NMFS is extending the comment period through June 10, 2003, on the DAS leasing aspect of the proposed emergency rule only (the comment period on the Settlement Agreement measures remains unchanged and, thus, ends on May 27, 2003). Extension of the comment period on the DAS Leasing Program will allow additional time for the public to comment on this important component of the proposed emergency rule. In order to be compliant with the requirements of the Administrative Procedure Act and to allow for a full 30-day delay in effectiveness of the proposed rule measures, should they be approved, extension of the comment period will require that there be two decisions made by the Assistant Administrator for Fisheries on measures in the proposed rule: One for the continuation of the Settlement Agreement measures, and one for the DAS Leasing Program. This will require two implementing final rules, with different implementation dates, for each of these aspects of the proposed rule.

A Draft Environmental Assessment (EA) was prepared and noticed for the April 24, 2003, proposed rulemaking. That EA addressed the impacts of both the emergency extension of the Settlement Agreement measures and the added DAS Leasing Program. For the first rulemaking, should it be approved, this EA and the associated Finding of No Significant Impact (FONSI) will be revised to reflect a preferred alternative that includes only the proposed extension of the Settlement Agreement measures, with a later determination that would be made on the DAS Leasing Program suboption. The second rulemaking, should it be approved, would be based on the EA and a second FONSI that would include the DAS Leasing Program suboption and address any comments received on the DAS Leasing Program within the extended comment period. Depending on the nature of the comments, the EA and FONSI could be further revised or amended.

The Settlement Agreement measures currently in place through an interim rule extension (68 FR 2919, January 22, 2003) will expire on July 27, 2003. To avoid a gap in the continuation of the Settlement Agreement measures ordered by the Court, the proposed emergency rule must be effective no later than July 28, 2003.

Also, NMFS inadvertently omitted the docket number in the proposed rule published on April 24, 2003 (68 FR 20096). However, the correction document to the proposed rule published on May 9, 2003 (68 FR 24914) and this extension notification reflect the docket number assigned to this action by the Department of Commerce.

Authority: 16 U.S.C. 1801 et seq.

Dated: May 19, 2003.
Rebecca Lent,
Deputy Assistant Administrator for Regulatory Programs, National Marine Fisheries Service.

[FR Doc. 03-13013 Filed 5-20-03; 2:30 pm]

BILLING CODE 3510-22-S